DEPARTMENT OF COMMERCE

International Trade Administration

[A-580-870]

Certain Oil Country Tubular Goods From the Republic of Korea: Final Results of Antidumping Duty Administrative Review; 2022-2023

AGENCY: Enforcement and Compliance, International Trade Administration, Department of Commerce.

SUMMARY: The U.S. Department of Commerce (Commerce) determines that certain producers/exporters subject to this review did not make sales of oil country tubular goods (OCTG) from the Republic of Korea (Korea) at less than normal value (NV) during the period of review (POR) September 1, 2022, through August 31, 2023.

DATES: Applicable May 30, 2025.

FOR FURTHER INFORMATION CONTACT: Carolyn Adie, AD/CVD Operations, Office VI, Enforcement and Compliance, International Trade Administration, U.S. Department of Commerce, 1401 Constitution Avenue NW, Washington, DC 20230; telephone: (202) 482-6250.

SUPPLEMENTARY INFORMATION:

Background

On October 10, 2024, Commerce published the Preliminary Results.¹ We invited interested parties to comment on the Preliminary Results. On November 12, 2024, Commerce received timely filed case briefs or letters in lieu of case briefs from various interested parties.² On December 9, 2024, Commerce tolled the deadline for these final results by 90 days until May 8, 2025.³ On May 7, 2025, Commerce extended the deadline for the final results by 14 days, to May 22, 2025.⁴ These final results cover six companies.⁵ Commerce conducted this review in accordance with section 751(a) of the Tariff Act of 1930, as amended (the Act).

¹ See Certain Oil Country Tubular Goods from the Republic of Korea: Preliminary Results of Antidumping Duty Administrative Review; 2022-2023, 89 FR 82216 (October 10, 2024) (Preliminary Results), and accompanying Preliminary Decision Memorandum.

² See SeAH Steel Corporation (SeAH)'s Letter, “Case Brief,” dated November 12, 2024 (SeAH's Comments); see also AJU Besteel Co., Ltd. (AJU Besteel)'s Letter, “Letter in Lieu of Case Brief,” dated November 12, 2024; and Hyundai Steel Company (Hyundai Steel)'s Letter, “Letter in Lieu of Case Brief,” dated November 12, 2024; and ILJIN Steel Corporation (ILJIN)'s Letter, “Letter in Lieu of Case Brief,” dated November 12, 2024. AJU Besteel, Hyundai Steel, and ILJIN each supported SeAH's Comments.

³ See Memorandum, “Tolling of Deadlines for Antidumping and Countervailing Duty Proceedings,” dated December 9, 2024.

⁴ See Memorandum, “Extension of Deadline for Final Results of Antidumping Duty Administrative Review,” dated May 7, 2025.

⁵ See Initiation of Antidumping and Countervailing Duty Administrative Reviews, 88 FR 78298 (November 15, 2023). The six companies consist of two mandatory respondents (NEXTEEL Co., Ltd. (NEXTEEL), and SeAH) and four companies not individually examined (AJU Besteel, Husteel Co., Ltd., Hyundai Steel, and ILJIN).

For a complete description of the events that followed the Preliminary Results of this administrative review, see the Issues and Decision Memorandum.⁶ The Issues and Decision Memorandum is a public document and is on file electronically via Enforcement and Compliance's Antidumping and Countervailing Duty Centralized Electronic Service System (ACCESS). ACCESS is available to registered users at https://access.trade.gov. Additionally, a complete version of the Issues and Decision Memorandum can be accessed at https://access.trade.gov/public/FRNoticesListLayout.aspx.

⁶ See Memorandum, “Issues and Decision Memorandum for the Final Results of the Administrative Review of the Antidumping Duty Order on Certain Oil Country Tubular Goods from the Republic of Korea; 2022-2023,” dated concurrently with, and hereby adopted by, this notice (Issues and Decision Memorandum).

Scope of the Order ⁷

⁷ See Certain Oil Country Tubular Goods from India, the Republic of Korea, Taiwan, the Republic of Turkey, and the Socialist Republic of Vietnam: Antidumping Duty Orders; and Certain Oil Country Tubular Goods from the Socialist Republic of Vietnam: Amended Final Determination of Sales at Less Than Fair Value, 79 FR 53691 (September 10, 2014) (Order).

The merchandise covered by the Order is certain OCTG. For a complete description of the scope of the Order, see the Issues and Decision Memorandum.

Analysis of Comments Received

All issues raised in the case and rebuttal briefs that were submitted by parties in this review are addressed in the Issues and Decision Memorandum and listed in the appendix to this notice.

Changes Since the Preliminary Results

We have made one change since the Preliminary Results, pertaining to SeAH. For additional information, see the Issues and Decision Memorandum.

Rate for Non-Examined Companies

For the rate for non-selected respondents in an administrative review, generally, Commerce looks to section 735(c)(5) of the Act, which provides instructions for calculating the all-others rate in a market economy investigation, for guidance. Under section 735(c)(5)(A) of the Act, the all-others rate is normally “an amount equal to the weighted-average of the estimated weighted-average dumping margins established for exporters and producers individually investigated, excluding any zero or de minimis margins, and any margins determined entirely {on the basis of facts available}.” The estimated weighted-average dumping margin established for both mandatory respondents is zero percent. Section 735(c)(5)(B) of the Act states, “If the estimated weighted average dumping margins established for all exporters and producers individually investigated are zero or de minimis margins, or are determined entirely under section 776, the administering authority may use any reasonable method to establish the estimated all-others rate for exporters and producers not individually investigated, including averaging the estimated weighted average dumping margins determined for the exporters and producers individually investigated.” Consistent with the U.S. Court of Appeals for the Federal Circuit's decision in Albemarle,⁸ and Commerce's practice,⁹ we assigned the companies not selected for individual examination in this review (i.e., AJU Besteel Co., Ltd.; Husteel Co., Ltd.; Hyundai Steel Company; and ILJIN Steel Corporation) a weighted-average dumping margin of zero percent based on the rates calculated for SeAH and NEXTEEL, in accordance with section 735(c)(5)(B) of the Act.

⁸ See Albemarle Corp. v. United States, 821 F.3d 1345 (Fed. Cir. 2016) (Albemarle).

⁹ See, e.g., Certain Cold-Rolled Steel Flat Products from the Republic of Korea: Preliminary Results of Antidumping Duty Administrative Review; 2020-2021, 87 FR 60989 (October 7, 2022), unchanged in Certain Cold-Rolled Steel Flat Products from the Republic of Korea: Final Results of Antidumping Duty Administrative Review; 2020-2021, 88 FR 20218 (April 5, 2023).

Final Results of Review

For these final results, Commerce determines that the following estimated weighted-average dumping margins exist for the period September 1, 2022, through August 31, 2023:

Exporter/producer | Weighted- average dumping margin (percent)
NEXTEEL Co., Ltd | 0.00
SeAH Steel Corporation | 0.00
Review-Specific Rate for Non-Examined Companies
AJU Besteel Co., Ltd | 0.00
Hyundai Steel Company | 0.00
Husteel Co., Ltd | 0.00
ILJIN Steel Corporation | 0.00

Disclosure

Commerce intends to disclose the calculations performed for these final results of review for SeAH within five days of the date of publication of this notice in the Federal Register, in accordance with 19 CFR 351.224(b). Because we made no changes to NEXTEEL's dumping margin since the Preliminary Results, no disclosure of NEXTEEL's calculations is necessary for these final results.

Assessment

Pursuant to section 751(a)(2)(C) of the Act and 19 CFR 351.212(b), Commerce shall determine, and CBP shall assess, antidumping duties on all appropriate entries of subject merchandise in accordance with the final results of this review. Where the respondent's weighted-average dumping margin is either zero or de minimis (i.e., less than 0.5 percent), we will instruct CBP to liquidate the appropriate entries without regard to dumping duties. Accordingly, because weighted-average dumping margins calculated for both Nexteel and SeAH are zero, we will instruct CBP to liquidate the appropriate entries without regard to antidumping duties.¹⁰

¹⁰ See 19 CFR 351.106(c)(2).

For the companies which were not selected for individual review, we will assign an assessment rate based on the methodology described in the “Rates for Non-Examined Companies” section, above.

Consistent with Commerce's assessment practice, for entries of subject merchandise during the POR produced by NEXTEEL or SeAH for which the producer did not know that its merchandise was destined for the United States, we will instruct CBP to liquidate unreviewed entries at the all-others rate established in the original less-than-fair-value (LTFV) investigation (i.e., 5.24 percent) ¹¹ if there is no rate for the intermediate company(ies) involved in the transaction.¹²

¹¹ See Certain Oil Country Tubular Goods from the Republic of Korea: Notice of Court Decision Not in Harmony with Final Determination, 81 FR 59603, 59604 (August 30, 2016) (OCTG Korea Timken Notice).

¹² For a full discussion of this practice, see Antidumping and Countervailing Duty Proceedings: Assessment of Antidumping Duties, 68 FR 23954 (May 6, 2003).

Commerce intends to issue assessment instructions to CBP no earlier than 35 days after the date of publication of the final results of this review in the Federal Register.¹³ If a timely summons is filed at the U.S. Court of International Trade, the assessment instructions will direct CBP not to liquidate relevant entries until the time for parties to file a request for a statutory injunction has expired (i.e., within 90 days of publication).

¹³ See Notice of Discontinuation Policy to Issue Liquidation Instructions After 15 Days in Applicable Antidumping and Countervailing Duty Administrative Proceedings, 86 FR 3995 (January 15, 2021).

Cash Deposit Requirements

The following cash deposit requirements will be effective for all shipments of subject merchandise entered, or withdrawn from warehouse, for consumption on or after the publication date of the final results of this administrative review, as provided for by section 751(a)(2)(C) of the Act: (1) the cash deposit rates for the companies listed in these final results will be equal to the weighted-average dumping margins established in the final results of this review; (2) for merchandise exported by producers or exporters not covered in this review but covered in a prior segment of this proceeding, the cash deposit rate will continue to be the company-specific rate published for the most recently completed segment in which the company was reviewed; (3) if the exporter is not a firm covered in this review, a prior review, or the original LTFV investigation, but the producer is, the cash deposit rate will be the rate established for the most recently completed segment of this proceeding for the producer of the subject merchandise; and (4) the cash deposit rate for all other producers or exporters will continue to be 5.24 percent,¹⁴ the all-others rate established in the LTFV investigation. These cash deposit requirements, when imposed, shall remain in effect until further notice.

¹⁴ See OCTG Korea Timken Notice, 81 FR at 59604.

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of the countervailing duties.

Administrative Protective Order (APO)

This notice also serves as the only reminder to parties subject to an APO of their responsibility concerning the disposition of proprietary information disclosed under APO in accordance with 19 CFR 351.305(a)(3), which continues to govern business proprietary information in this segment of the proceeding. Timely written notification of the return or destruction of APO materials or conversion to judicial protective order is hereby requested. Failure to comply with the regulations and terms of an APO is a sanctionable violation.

Notification to Interested Parties

This administrative review and notice are issued and published in accordance with sections 751(a)(1) and 777(i)(1) of the Act, and 19 CFR 351.213(h) and 19 CFR 351.221(b)(5).

Dated: May 22, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Rate for Non-Examined Companies

VI. Discussion of the Issues

Comment 1: Constructed Export Price (CEP) Offset

Comment 2: Exclusion of Back-to-Back U.S. Sales

VII. Recommendation

[FR Doc. 2025-09783 Filed 5-29-25; 8:45 am]

BILLING CODE 3510-DS-P